DEPARTMENT OF JUSTICE

Notice of Lodging of Consent Decree Pursuant to the Clean Air Act

Consistent with Departmental policy, 28 CFR 50.7, notice is hereby given that a proposed Consent Decree in United States v. E. I. du Pont de Nemours, (“DuPont”) C.A. No. 97-191 was lodged with the United States District Court for the Eastern District of Kentucky on August 1, 2000. This proposed Consent Decree settles claims brought against DuPont pursuant to section 112(r) of the Clean Air Act, 42 U.S.C. 7412(r) for violations of its general duty of care, and pursuant to Section 109(c) of the Comprehensive Environmental Response, Compensation, and Liability Act 42 U.S.C. 9609(c) and section 325(a)(3) of the Emergency Planning and Community Right-to-Know Act, 42 U.S.C. 11045(a)(3) for notice violations, with respect to DuPont's sulfuric acid manufacturing plant in Wurtland, Kentucky.

The settlement provides for payment of $850,000 in civil penalties and performance of a Supplemental Environmental project (“SEP”) valued at $650,000. Under the proposed SEP, DuPont will upgrade the emergency notification systems of the ten counties surrounding the Wurtland facility. The total penalty under this settlement is $1,500,000.

The Department of Justice will receive, for a period of thirty (30) days from the date of this publication, comments relating to the proposed Consent Decree. Comments should be addressed to the Assistant Attorney General for the Environment and Natural Resources Division, U.S. Department of Justice, P.O. Box 7611, Washington, D.C. 20044; and refer to United States v. E. I. du Pont de Nemours, (“DuPont”) C. A. No. 97-191, DOJ Ref. # 90-5-2-1 -2099.

The proposed settlement agreement may be examined at the Office of the United States Attorney, U.S. Department of Justice, 110 West Vine Street, P.O. Box 3077 Lexington, KY 40507, and at the office of the Environmental Protection Agency, Region 4, 61 Forsyth Street, S.W., Atlanta, GA 30303. A copy of the proposed Consent Decree may be obtained by mail from the Department of Justice Consent Decree Library, P.O. Box 7611, Washington, D.C. 20044. In requesting a copy please refer to the referenced case and enclose a check in the amount of $6.00 (25 cents per page reproduction costs), payable to the Consent Decree Library.

Joel M. Gross,
Chief, Environmental Enforcement Section, Environment and Natural Resources Division.

[FR Doc. 00-20624 Filed 8-14-00; 8:45 am]

BILLING CODE 4410-15-M